DEPARTMENT OF TRANSPORTATION

National Highway Traffic Safety Administration

49 CFR Part 501

[Docket No. NHTSA-2009-0121]

RIN 2127-AK59

Succession to the Administrator

AGENCY: National Highway Traffic Safety Administration (NHTSA), Department of Transportation (DOT).

ACTION: Final rule.

SUMMARY: This document amends NHTSA's regulation specifying the order of succession to the Administrator. We have determined at the present time that a change in the order of succession better serves the agency's mission.

DATES: Effective Date: This rule is effective on September 8, 2009.

FOR FURTHER INFORMATION CONTACT: You may contact Maria Arsenlis at 202-366-9153.

SUPPLEMENTARY INFORMATION: The mission of NHTSA is to save lives, prevent injuries and reduce economic costs due to road traffic crashes, through education, research, safety standards and enforcement activity. This final rule, which amends NHTSA's regulation specifying the order of succession to the Administrator, is a matter relating to agency management or personnel. We have determined at this time that a change in the order of succession better serves the public interest and the agency's mission. The Senior Associate Administrator for Vehicle Safety is responsible for overseeing all of NHTSA's rulemaking, enforcement, and research programs, as well as NHTSA's National Center for Analysis.

Notice and the opportunity for comment are not required under the Administrative Procedure Act, and the amendment is effective immediately upon publication in the Federal Register. 5 U.S.C. 553(a)(2). In addition, this amendment is not subject to Executive Order 12866, the Department of Transportation's regulatory policies and procedures, or the provisions for Congressional review of final rules in Chapter 8 of Title 5, United States Code.

List of Subjects in 49 CFR Part 501

Authority delegations (Government agencies), Organization and functions (Government agencies).

In consideration of the foregoing, 49 CFR Part 501 is amended as follows:

PART 501—[AMENDED]

1. The authority citation for Part 501 continues to read as follows:

Authority: 49 U.S.C. 105 and 322; delegation of authority at 49 CFR 1.50.

2. In § 501.4 revise paragraph (a) to read as follows:

§ 501.4 Succession to the Administrator.

(a) The following officials, in the order indicated, shall act in accordance with the requirements of 5 U.S.C. 3346-3349 as Administrator of the National Highway Traffic Safety Administration, in the case of the absence or disability or in the case of a vacancy in the office of the Administrator, until a successor is appointed:

(1) Deputy Administrator;

(2) Senior Associate Administrator for Vehicle Safety;

(3) Chief Counsel;

(4) Senior Associate Administrator for Traffic Injury Control; and

(5) Senior Associate Administrator for Policy and Operations.

* * * * *

Issued in Washington, DC, on July 24, 2009.
John D. Porcari,
Deputy Secretary.

[FR Doc. E9-20695 Filed 9-4-09; 8:45 am]

BILLING CODE 4910-59-P